DEPARTMENT OF HOUSING AND URBAN DEVELOPMENT

[Docket No. FR-5600-FA-19]

Announcement of Funding Awards, Choice Neighborhoods Grant Program, Fiscal Year 2012

AGENCY: Office of the Assistant Secretary for Public and Indian Housing and Office of Multifamily Programs, HUD.

ACTION: Announcement of funding awards.

SUMMARY: In accordance with Section 102(a)(4)(C) of the Department of Housing and Urban Development Reform Act of 1989, this announcement notifies the public of funding decisions made by the Department in a competition for funding under the Fiscal Year 2012 (FY2012) Notice of Funding Availability (NOFA) for the Choice Neighborhoods Planning Grants and the FY2012 NOFA for Choice Neighborhoods Implementation Grants. This announcement contains the consolidated names and addresses of these award recipients under the Choice Neighborhoods Grant Program for FY2012.

FOR FURTHER INFORMATION CONTACT: For questions concerning the Choice Neighborhoods Grant Program awards, contact Ms. Mindy Turbov, Director of the Choice Neighborhoods Program, Office of Public Housing Investments, 451 7th Street SW., Room 4130, Washington, DC 20410, telephone (202) 401-8812. Hearing or speech-impaired individuals may access this number via TTY by calling the toll-free Federal Information Relay Service at (800) 877-8339.

SUPPLEMENTARY INFORMATION: Building upon the successes achieved and the lessons learned from the HOPE VI program, the Choice Neighborhoods Program employs a comprehensive approach to community development centered on housing transformation. The program aims to transform neighborhoods of poverty into viable mixed-income neighborhoods with access to economic opportunities by revitalizing severely distressed public and assisted housing and investing and leveraging investments in well-functioning services, effective schools and education programs, public assets, public transportation, and improved access to jobs. Choice Neighborhoods grants primarily funds the transformation of public and/or HUD-assisted housing developments through preservation, rehabilitation, and management improvements as well as demolition and new construction. In addition, these funds can be used on a limited basis (and combined with other funding) for improvements to the surrounding community, public services, facilities, assets and supportive services. Choice Neighborhoods grant funds are intended to catalyze other investments that will be directed toward necessary community improvements. For FY2012, HUD awarded two types of grants for the Choice Neighborhoods Initiative: Planning Grants and Implementation Grants.

(1) Planning Grants enable those communities that are not yet able to fully undertake a successful neighborhood transformation to build the capacity to do so, with the Federal government supporting their endeavors and incentivizing local support. The Planning Grants enable more communities to create a rigorously developed plan and build support necessary for neighborhood transformation to be successful.

(2) Implementation Grants provide a significant amount of Federal support to those communities that have undergone a comprehensive local planning process and are now moving forward with their “Transformation Plan” to redevelop the neighborhood.

The FY2012 Choice Neighborhoods Planning Grant awards totaled $4,950,000 and 17 applicants were selected for funding in a competition, the results of which were announced on October 11, 2012. At that time, and in addition to the applicant and Congressional notification processes, the grantees were posted to the HUD Web site at: http://portal.hud.gov/hudportal/HUD?src=/press/press_releases_media_advisories/2012/HUDNo.12-164 and http://portal.hud.gov/hudportal/HUD?src=/program_offices/public_indian_housing/programs/ph/cn/planninggrants. Applications were scored and selected for funding based on the selection criteria in the FY2012 Choice Neighborhoods Planning Grant NOFA.

The FY2012 Choice Neighborhoods Implementation Grant awards totaled $108,980,000 and four applicants were selected for funding in a competition, the results of which were announced on December 13, 2012. At that time, and in addition to the applicant and Congressional notification processes, the grantees were posted to the HUD Web site at: http://portal.hud.gov/hudportal/HUD?src=/press/press_releases_media_advisories/2012/HUDNo.12-193 and http://portal.hud.gov/hudportal/HUD?src=/program_offices/public_indian_housing/programs/ph/cn/grants. Applications were scored and selected for funding based on the selection criteria in the FY2012 Choice Neighborhoods Implementation Grant NOFA.

In accordance with Section 102 (a)(4)(C) of the Department of Housing and Urban Development Reform Act of 1989 (103 Stat.1987, 42 U.S.C. 3545), the Department is publishing the names, addresses, and amounts of the Choice Neighborhoods awards made under the competition in Appendix A to this document.

Dated: April 4, 2013.
Sandra B. Henriquez,
Assistant Secretary for Public and Indian Housing.

Appendix A

Choice Neighborhoods Planning lead grantee name and contact information | Amount funded | Project funded
Boston Housing Authority, 52 Chauncy Street, Boston, MA 02111-2325 | $300,000 | Whittier Street Apartments; Whittier neighborhood.
BRIDGE Housing Corporation, 345 Spear Street, Suite 700, San Francisco, CA 94105-1673 (project is located in San Francisco, CA) | 300,000 | Potrero Terrace and Potrero Annex; South Potrero neighborhood.
City of Roanoke Redevelopment and Housing Authority, 2624 Salem Turnpike NW., Roanoke, VA 24017-5334 | 200,000 | Lansdown Park and Melrose Towers; Loudon-Melrose/Shenandoah West neighborhood.
County of Pasco, 8731 Citizens Drive, Suite 340, New Port Richey, FL 34654-5598 (project is located in Dade City, FL) | 300,000 | Cypress Villas II; Lacoochee-Trilby neighborhood.
District of Columbia Housing Authority, 1133 North Capitol Street NE., Washington, DC 20002-1345 | 300,000 | Barry Farm Dwellings and Wade Apartments; Barry Farm neighborhood.
Housing Authority of the City of Austin, 1124 S. Interstate Highway 35, Austin, TX 78704-2614 | 300,000 | Rosewood Courts; Rosewood neighborhood.
Housing Authority of the City of Camden, 2021 Watson Street 2nd Floor, Camden, NJ 08105-1866 | 300,000 | Clement T. Branch Village and J. Allen Nimmo Court; Mt. Ephraim Corridor neighborhood.
Housing Authority of the City of Columbia, 1917 Harden Street, Columbia, SC 29204-1015 | 250,000 | Allen Benedict Court and Gonzales Gardens; East Central Columbia neighborhood.
Housing Authority of the City of Durham, 330 East Main Street, Durham, NC 27701-3718 | 300,000 | McDougald Terrace; Southeast Central neighborhood.
Housing Authority of the City of Spartanburg, 201 Caulder Avenue, Suite A, Spartanburg, SC 29306-5640 | 300,000 | Archibald Rutledge Highrise and Oakview Apartments; Northside neighborhood.
Kingsport Housing and Redevelopment Authority, 906 East Sevier Avenue, Kingsport, TN 37662-0044 | 300,000 | Robert E. Lee Apartments; Midtown neighborhood.
Municipal Housing Authority for the City of Yonkers, 1511 Central Park Avenue, Yonkers, NY 10710-5942 | 300,000 | Cottage Gardens; Croton Heights/Cottage Place Gardens neighborhood.
New York City Housing Authority, 250 Broadway, 11th Floor, New York, NY 10007-2516 | 300,000 | Betances; Mott Haven, Bronx, NY neighborhood.
Newark Housing Authority, 500 Broad Street, Newark, NJ 07102-3112 | 300,000 | Seth Boyden Terrace; Dayton Street neighborhood.
Sunnydale Development Co., LLC, 1360 Mission Street, Suite 300, San Francisco, CA 94103-2626 (project is located in San Francisco, CA) | 300,000 | Sunnydale-Velasco; Sunnydale/Visitacion Valley neighborhood.
The Michaels Development Company I, L.P., 3 East Stow Road, Suite 100, Marlton, NJ 08053-3188 (project is located in Honolulu, HI) | 300,000 | KPT lowrises and Kuhio Homes; Kuhio Park neighborhood.
Woonsocket neighborhood Development Corporation d/b/a, NeighborWorks Blackstone River Valley, 719 Front Street, Suite 103, Woonsocket, RI 02895-5287 | 300,000 | Veterans Memorial Housing Development; Our neighborhood.s' Planning District neighborhood.
Total | $4,950,000 |

Choice neighborhoods implementation lead grantee name and contact information | Amount funded | Project funded
The Community Builders, Inc., 95 Berkeley Street, Suite 500, Boston, MA 02116-6229 (project is located in Cincinnati, OH) | 29,500,000 | Alameda, Crescent Court, Poinciana, Maple, Somerset Apartments; Avondale neighborhood.
San Antonio Housing Authority, 818 S. Flores, San Antonio, TX 78204-1430 | 29,750,000 | Wheatley Courts; Eastside neighborhood.
Housing Authority of the City of Seattle, 120 6th Avenue North, Seattle, WA 98109-5002 | 19,730,000 | Yesler Terrace; Yesler neighborhood.
Housing Authority of the City Tampa, 1529 W. Main Street, Tampa, FL 33607-4415 | 30,000,000 | Central Park Village; Central Park/Ybor neighborhood.
Total | 108,980,000 |

[FR Doc. 2013-08276 Filed 4-9-13; 8:45 am]

BILLING CODE 4210-67-P